DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of March 16, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 26, 2015.
Roy E. Wright,
Deputy Associate Administrator for Mitigation, Department of Homeland Security, Federal Emergency Management Agency.

Community | Community map repository address
Sussex County, Delaware, and Incorporated Areas
Docket No.: FEMA-B-1352
City of Lewes | City Hall, 114 East 3rd Street, Lewes, DE 19958.
City of Milford | Planning Department, 201 South Walnut Street, Milford, DE 19963.
City of Rehoboth Beach | Building and Licensing Department, 306 Rehoboth Avenue, Rehoboth Beach, DE 19971.
City of Seaford | City Hall, 414 High Street, Seaford, DE 19973.
Town of Bethany Beach | Building Inspector's Office, 214 Garfield Parkway, Bethany Beach, DE 19930.
Town of Bethel | The Community House, 7769 Main Street, Bethel, DE 19931.
Town of Blades | Town Hall, 20 West Fourth Street, Blades, DE 19973.
Town of Bridgeville | Town Hall, 101 North Main Street, Bridgeville, DE 19933.
Town of Dagsboro | Town Hall, 33134 Main Street, Dagsboro, DE 19939.
Town of Dewey Beach | Town Hall, 105 Rodney Avenue, Dewey Beach, DE 19971.
Town of Fenwick Island | Building Department, 800 Coastal Highway, Fenwick Island, DE 19944.
Town of Greenwood | Town Hall, 100 West Market Street, Greenwood, DE 19950.
Town of Henlopen Acres | Henlopen Acres Town Hall, 104 Tidewater Road, Rehoboth Beach, DE 19971.
Town of Laurel | Code Enforcement Office, 201 Mechanic Street, Laurel, DE 19956.
Town of Millsboro | Town Center, 322 Wilson Highway, Millsboro, DE 19966.
Town of Millville | Town Hall, 36404 Club House Road, Millville, DE 19967.
Town of Milton | Town Hall, 115 Federal Street, Milton, DE 19968.
Town of Ocean View | Wallace A. Melson Municipal Building, 201 Central Avenue, 2nd Floor, Ocean View, DE 19970.
Town of Slaughter Beach | Town Office, Memorial Fire Company Station 89, 2nd Floor, 359 Bay Avenue, Slaughter Beach, DE 19963.
Unincorporated Areas of Sussex County | Sussex County Planning and Zoning Department, 2 The Circle, Georgetown, DE 19947.

[FR Doc. 2015-07148 Filed 3-27-15; 8:45 am]

BILLING CODE 9110-12-P